DEPARTMENT OF AGRICULTURE

Food and Nutrition Service

7 CFR Parts 271 and 275

[FNS-2020-0016]

RIN 0584-AE79

Provisions To Improve the Supplemental Nutrition Assistance Program's Quality Control System; Withdrawal

AGENCY: Food and Nutrition Service (FNS), USDA.

ACTION: Notice of Proposed Rulemaking; withdrawal.

SUMMARY: This document informs the public that FNS is withdrawing the proposed rule titled, “Provisions to Improve the Supplemental Nutrition Assistance Program's Quality Control System,” that published in the Federal Register on September 19, 2023, and its correction on December 19, 2023. This rule proposed amendments to Supplemental Nutrition Assistance Program (SNAP) regulations to strengthen and improve the integrity and accuracy of the SNAP quality control (QC) system as requested by the Agriculture Improvement Act of 2018.

DATES: As of January 6, 2025, the proposed rule published on September 19, 2023, at 88 FR 64756, and its correction on December 19, 2023, at 88 FR 87725, are officially withdrawn.

ADDRESSES: SNAP, FNS, USDA, 1320 Braddock Place, Alexandria, VA 22314.

FOR FURTHER INFORMATION CONTACT: Catherine Buhrig, 703-305-2022, Food and Nutrition Service, 1320 Braddock Place, 5th Floor, Alexandria, Virginia 22314, SM.FN.SNAPQCRules-ICR@usda.gov.

SUPPLEMENTARY INFORMATION: Upon further deliberation, FNS has decided to consider additional provisions to the proposed rule titled, “Provisions to Improve the Supplemental Nutrition Assistance Program's Quality Control System.” As such, FNS has decided to withdraw the proposed rule published in the Federal Register on September 19, 2023, and its correction published on December 19, 2023. FNS will continue to engage with stakeholders on possible regulatory improvements to the SNAP QC system and will consider additional approaches to strengthen and improve the integrity and accuracy of the SNAP QC system. FNS will also continue to focus on improving monitoring and oversight efforts, including providing State agencies with technical assistance on corrective actions, to address existing state performance issues related to payment accuracy, major system failures, and application timeliness.

Dr. Tameka Owens,
Acting Administrator, Food and Nutrition Service.

[FR Doc. 2024-31263 Filed 1-3-25; 8:45 am]

BILLING CODE 3410-30-P